DEPARTMENT OF HOMELAND SECURITY

[DHS-2018-0021]

Agency Information Collection Activities: Case Assistance Form (Ombudsman Form DHS-7001, and Instructions)

AGENCY: Office of the Citizenship and Immigration Services Ombudsman, Department of Homeland Security (DHS).

ACTION: 60-Day notice and request for comments; Extension of a currently approved collection, 1601-0004.

SUMMARY: The DHS Office of the Citizenship and Immigration Services (CIS) Ombudsman, will submit the following Information Collection Request (ICR) to the Office of Management and Budget (OMB) for review and clearance in accordance with the Paperwork Reduction Act of 1995. The information collected on this form will allow the CIS Ombudsman to identify the problem as either a case problem, which is a request for information about a case that was filed with U.S. Citizenship and Immigration Services (USCIS) (“case problem”); or a systemic issue that may or may not pertain to an individual case which the individual, attorney or employer is seeking to bring to the attention of the CIS Ombudsman (“trend”).

DATES: Comments are encouraged and will be accepted until June 25, 2018. This process is conducted in accordance with 5 CFR 1320.1.

ADDRESSES: You may submit comments, identified by DHS-2018-0021, at:

• Federal eRulemaking Portal: http://www.regulations.gov. Please follow the instructions for submitting comments.

Instructions: All submissions received must include the agency name and docket number DHS-2018-0021. All comments received will be posted without change to http://www.regulations.gov, including any personal information provided.

Docket: For access to the docket to read background documents or comments received, go to http://www.regulations.gov.

FOR FURTHER INFORMATION CONTACT: Raymond Mills, (202) 357-8100, Raymond.g.Mills@hq.dhs.gov.

SUPPLEMENTARY INFORMATION: The CIS Ombudsman was created under section 452 of the Homeland Security Act of 2002 (Pub. L. 107-296) to: (1) Assist individuals and employers in resolving problems with the USCIS; (2) to identify areas in which individuals and employers have problems in dealing with USCIS; and (3) to the extent possible, propose changes in the administrative practices of USCIS to mitigate problems. This form is used by an applicant who is experiencing problems with USCIS during the processing of an immigration benefit.

The information collected on this form will allow the CIS Ombudsman to identify the problem as either: (1) A case problem which is a request for information about a case that was filed with USCIS (“case problem”); or (2) the identification of a systemic issue that may or may not pertain to an individual case which the individual, attorney or employer is seeking to bring to the attention of the CIS Ombudsman (“trend”).

For case problems, the CIS Ombudsman will refer case specific issues to the Customer Assistance Office for USCIS for further research, and review.

For trends received, the CIS Ombudsman notes the systemic issue identified in the correspondence which may or may not be incorporated into future recommendations submitted to the Director of USCIS pursuant to section 452(d)(4) of Public Law 107-296.

The use of this form provides the most efficient means for collecting and processing the required data. The CIS Ombudsman also employs the use of information technology in collecting and processing information by offering the option for electronic submission of the DHS Form 7001 through the Ombudsman Online Case Assistance System. Per PRA requirements, a fillable PDF version of the form is provided on the CIS Ombudsman's website. The PDF form can be completed online, printed out and sent to the CIS Ombudsman's office at the address indicated on the form. It is noted on the form that using the paper method can result in significant processing delays for the CIS Ombudsman's office to provide the requested case assistance. After approval of the changes to the form detailed in this supporting statement, both the online form and PDF will be updated and posted on the Ombudsman's website at http://www.dhs.gov/case-assistance for submission of the form.

The assurance of confidentiality provided to the respondents for this information collection is provided by: (a) The CIS Ombudsman authorizing legislation and mandate as established by Homeland Security Act of 2002 at Section 452; (b) the Privacy Impact Assessment and the (c) Systems of Records Notice titled “Department of Homeland Security Citizenship and Immigration Services Ombudsman-001 Online Ombudsman Form DHS-7001 and Ombudsman Case Assistance Online System of Records”. The DHS Privacy Office will receive the entire package of documents for this information collection to assure authorization for renewal of the collection.

The Ombudsman Form DHS-7001 (PDF) and the Ombudsman Case Assistance Online System are constructed in compliance with all applicable DHS Privacy Office, DHS CIO, DHS Records Management, and OMB regulations regarding data collection, use, storage, and retrieval. The proposed public use data collection system is therefore intended to be distributed for public use primarily by electronic means with limited paper distribution and processing of paper forms.

The Ombudsman Form DHS-7001 (PDF) and the Online Ombudsman Form DHS-7001 (Ombudsman Case Assistance Online System) have been constructed in compliance with regulations and authorities under the purview of the DHS Privacy Office, DHS CIO, DHS Records Management, and OMB regulations regarding data collection, use, sharing, storage, information security and retrieval of information.

There has been an increase of 3,200 in the estimated annual burden hours previously reported for this information collection. The increase in burden hours is a reflection of agency estimates.

There is no change in the information being collected, however there have been cosmetic changes to the form including punctuation, formatting, and text changes to make the form more understandable and streamlined for use by respondents. In 2015, the following changes were made:

a. Number of response fields was reduced from 13 to 12 and arranged in a way that streamlines completion, submission and processing of the form.

b. The title of the form was changed from “Case Problem Submission Worksheet (CIS Ombudsman Form DHS-7001)” to “Case Assistance Form (Ombudsman Form DHS-7001)”.

c. The name of the system was changed from “Virtual Ombudsman System” to “Ombudsman Case Assistance Online System”.

The following narrative explains the changes made on the form in 2015 and the corresponding instructions. The ORIGINAL 7001 form had the sections arranged in the following order:

1. Name: Please identify the individual or employer encountering difficulties with USCIS (applicant/beneficiary/petitioner).

2. Contact Information: Please provide information on the individual or employer encountering difficulties with USCIS (applicant/beneficiary/petitioner).

3. Date of Birth.

4. Country of Birth and Citizenship.

5. Alien Registration Number (A-Number); The A-number appears in the following format: A123-456-789.

6. Person Preparing This Form: Please indicate who is completing this form.

7. Applications/Petitions Filed: List all applications and/or petitions pending with USCIS related to your case inquiry.

8. Type of Immigration Benefit: Please provide the type of immigration benefit sought from USCIS.

9. Reason for Inquiry: Please indicate if any of the options apply. Provide a description in section 10.

10. Description: Describe the difficulties experienced with USCIS. Attach additional pages if needed.

11. Prior Actions Taken: Check all that apply: Please describe the response USCIS provided and attach any relevant correspondence.

12. Consent: If you are the beneficiary of an immigration petition, consent of the individual who submitted the petition on your behalf is required. The petitioner must sign.

13. Attorney or Accredited Representative: Please complete this section if you are an attorney, a representative of an organization, an accredited representative, or anyone else preparing this form on behalf of the individual or employer encountering difficulties with USCIS.

The AMENDED 7001 form has the sections arranged in the following order:

1. Name: Please identify the name of the individual or employer (applicant/beneficiary/petitioner) encountering or difficulties with USCIS. Do not enter the attorney/law firm's name here.

2. Date of Birth: Country of Birth: Country of Citizenship.

3. Alien Registration Number (A-Number); The A-number appears in the following format: A123-456-789.

4. Contact Information: Please provide the contact information of the individual or employer (applicant/beneficiary/petitioner) encountering difficulties with USCIS. Please include the primary E-Mail address for the CIS Ombudsman to provide updates.

5. Applications/Petitions Filed: List all applications and/or petitions pending with USCIS related to your case inquiry.

6. Type of Immigration Benefit Sought: Please provide the type of immigration benefit sought from USCIS.

7. Reason for Inquiry/Case Assistance Request: Check all that apply. Provide a description in section 8 and add documentation related to your inquiry.

8. Description of your Case Problem: Describe the difficulties experienced with USCIS including all responses USCIS provided. Attach relevant correspondence concerning actions taken to resolve the issue before submitting with the Ombudsman's Office including: Receipt notices; requests for evidence; decisions; notices and any other correspondence from USCIS about your case. Attach additional pages if needed.

9. Prior Actions Taken to Remedy the Problem: Check all that apply and provide the additional information requested for each selection in the space provided. Note that if selecting Option a “Visited USCIS My Case Status at www.uscis.gov“, you must indicate what additional actions (b through g) were taken to remedy the problem before submitting the form to the Ombudsman.

a. Visited USCIS My Case Status at http://www.uscis.gov/.

b. Contacted the National Customer Service Center (NCSC) for information and/or assistance regarding this case at their toll-free number 1-800-375-5283. Provide SRMT Number.

c. Attended an InfoPass Appointment with USCIS. Provide InfoPass Number.

d. Sent an Email to USCIS. Provide date E-Mail sent: Provide USCIS Email address.

e. Contacted a U.S. Government Department or Agency for assistance. Provide name and contact information.

f. Contacted a U.S. Congressional Representative for assistance. Provide name and contact information.

g. Other. Please describe.

10. Person Preparing This Form: Please indicate who is completing this form.

11. Attorney or Accredited Representative: Please complete this section if you are an attorney, a representative of an organization, an accredited representative, or anyone else preparing this form on behalf of the individual or employer encountering difficulties with USCIS. Please attach copy of your Form G-28.

12. Consent: Please note that if you are the beneficiary of an immigration petition, consent of the individual or employer that submitted the petition on your behalf is required. The petitioner must sign.

The instructions have been updated to reflect the electronic submission options as detailed in the previous paragraphs.

Instructions for electronic submission will be posted on the CIS Ombudsman website at www.dhs.gov/cisombudsman. The electronic version of the form was developed by DHS OCIO (Office of the Chief Information Officer) based upon the approved version of the amended 7001 form as described herein. Sample screenshots were provided with the 2015 submission.

There is no change in the terms of clearance from the previously approved collection as addressed by the: (a) Privacy Impact Assessment and (b) Systems of Records Notice titled “Department of Homeland Security Citizenship and Immigration Services Ombudsman-001 Online Ombudsman Form DHS-7001 and Ombudsman Case Assistance Online System of Records”.

This is an extension of a currently approved collection, 1601-0004. OMB is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of the Citizenship and Immigration Services Ombudsman, DHS.

Title: Case Assistance Form (Ombudsman Form DHS-7001, and Instructions).

OMB Number: 1601-0004.

Frequency: Annually.

Affected Public: Individuals or Households.

Number of Respondents: 12,000.

Estimated Time per Respondent: 1 hour.

Total Burden Hours: 12,000.

Dated: April 13, 2018. .
Melissa Bruce,
Executive Director, Enterprise Business Management Office.

[FR Doc. 2018-08450 Filed 4-23-18; 8:45 am]

BILLING CODE 9110-9B-P